DEPARTMENT OF COMMERCE

International Trade Administration

Washington University; Notice of Consolidated Decision on Applications for Duty-Free Entry of Scientific Instruments

This is a decision consolidated pursuant to Section 6(c) of the Educational, Scientific, and Cultural Materials Importation Act of 1966 (Pub. L. 89-651, 80 Stat. 897; 15 CFR part 301). Related records can be viewed between 8:30 AM and 5 PM in Room 4211, U.S. Department of Commerce, 14th and Constitution Avenue, NW, Washington, DC.

Docket Numbers: 00-012 and 00-014. Applicant: Washington University, St, Louis, WA 63110. Instruments: XY Shifting Tables, Model 240 with Accessories. Manufacturer: Luigs and Neuman, Germany. Intended Use: See notice at 65 FR 37117 and 37118, June 13, 2000. Advice received from: National Institutes of Health, July 3, 2000.

Comments: None received. Decision: Approved. No instrument of equivalent scientific value to the foreign instruments, for the purposes for which the instruments are intended to be used, is being manufactured in the United States. Reasons: These are compatible accessories for instruments previously imported for the use of the applicant. The National Institutes of Health advises that the accessories are pertinent to the intended uses and that it knows of no comparable domestic accessories.

We know of no domestic accessories which can be readily adapted to the previously imported instruments.

Frank W. Creel,
Director, Statutory Import Programs Staff.

[FR Doc. 00-19543 Filed 8-1-00; 8:45 am]

BILLING CODE 3510-DS-P